DEPARTMENT OF EDUCATION

National Assessment Governing Board

Meeting

AGENCY: National Assessment Governing Board, U.S. Department of Education.

ACTION: Announcement of a closed teleconference meeting.

SUMMARY: This notice sets forth the agenda for an October 28, 2019 closed teleconference meeting of the National Assessment Governing Board (hereafter referred to as Governing Board).

DATES: October 28, 2019 from 4:00 p.m. to 5:30 p.m. Eastern Standard Time.

ADDRESSES: Teleconference Meeting.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. The Governing Board is established to formulate policy for NAEP administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public. Governing Board members serve 4-year terms, subject to renewal for another 4 years, at the discretion of the Secretary of Education.

Meeting Agenda

Members of the Governing Board will review applications received for Governing Board vacancies in the following categories for the 2019 term:

1. General public representative

2. Twelfth Grade Teacher

Following discussion, the Governing Board will take action on a recommended slate of finalists for submission to the Secretary of Education for consideration and appointment.

Members of the public will have an opportunity to provide written feedback on the closed teleconference meeting in advance of the call at nagbnominations@ed.gov, with the email subject header titled “Teleconference Feedback on Nominations.” Comments must be received no later than 12:00 p.m. EST on October 21, 2019.

Notice of the meeting is required under § 10(a)(2) of the Federal Advisory Committee Act (FACA). The discussion during the teleconference pertains solely to internal personnel rules and practices of an agency and information of a personal nature where disclosure would constitute a clearly unwarranted invasion of personal privacy. As such, the discussions are protected by exemptions 2 and 6 of § 552b(c) of Title 5 of the United States Code.

Access to Records of the Meeting: Pursuant to FACA requirements, the public may inspect the closed meeting report of the teleconference at the National Assessment Governing Board office, 10 working days after the teleconference meeting.

Reasonable Accommodations: The NAGB website is accessible to individuals with disabilities. Written comments may be submitted electronically or in hard copy to the attention of the Executive Officer/Designated Federal Official (see contact information noted above). Information on the Governing Board and its work can be found at www.nagb.gov.

Electronic Access to This Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U.S. Department of Education.

[FR Doc. 2019-22509 Filed 10-15-19; 8:45 am]

BILLING CODE P